DEPARTMENT OF COMMERCE

National Oceanic and Atmospheric Administration

RIN 0648-XV50

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Hawaii and American Samoa Advisory Panels (AP), Hawaii and American Samoa Plan Teams (PT), and Hawaii and American Samoa Regional Ecosystem Advisory Committees (REAC).

DATES: The Hawaii AP meeting will be held on April 12, 2010, Hawaii REAC meeting on April, 13, 2010, and Hawaii PT meeting on April 14 and 15, 2010. The American Samoa AP meeting will be held on April 19, 2010, American Samoa PT meeting on April 20, 2010, and American Samoa REAC meeting on April 21, 2010. For specific times and agendas, see SUPPLEMENTARY INFORMATION.

ADDRESSES: The Hawaii AP, PT and REAC meetings will be held at the Council Office Conference Room, 1164 Bishop Street, Suite 1400, Honolulu, HI. The American Samoa AP and PT meetings will be held at the American Samoa Department of Marine and Wildlife Resources (DMWR) Conference Room, Pago Pago, American Samoa. The American Samoa REAC meeting will be held at the Governor H. Rex Lee Auditorium (Fale Laumei), Department of Commerce Government of American Samoa, Pago Pago, American Samoa.

FOR FURTHER INFORMATION CONTACT: Kitty M. Simonds, Executive Director; telephone: (808) 522-8220.

SUPPLEMENTARY INFORMATION: Public comment periods will be provided throughout the agendas. The order in which agenda items are addressed may change. The meetings will run as late as necessary to complete scheduled business.

Schedule and Agenda for Hawaii AP Meeting

9:30 a.m. 5 p.m., Monday, April 12, 2010

The Hawaii AP will meet to hear reports on, discuss and consider developing recommendations on the following upcoming Council meeting actions:

A. Annual Catch Limits

B. Management Measures for Aquaculture in the Western Pacific

C. Hawaii Archipelago Essential Fish Habitat Review

D. Cooperative Research Projects and Priorities

Reports will be provided on meetings and workshops held related to Catch Shares/Limited Access Privilege Programs for Hawaii bottomfish and monitoring activities and projects including, Kona crab fishery assessment, NMFS biosampling program, and bottomfish regulations and compliance.

Schedule and Agenda for Hawaii REAC Meeting

9 a.m. 4 p.m., Tuesday, April 13, 2010

The Hawaii REAC will meet to hear reports on, discuss and consider developing recommendations on the following upcoming Council meeting actions:

A. Annual Catch Limits

B. Recommendations on Management Measures for Aquaculture in the Western Pacific

C. Recommendations on Hawaii Archipelago Essential Fish Habitat

D. Catch Shares/Limited Access Privilege Programs

In addition, the Hawaii REAC will hear reports on, discuss and consider developing recommendations on Marine Spatial Planning, Hawaii Sanctuary Management Plan and Review, Marine Recreational Planning and Registry, Navy Integrated Natural Resource Management Plan, ESA Incidental Take Permit for Sea Turtles and Monk Seals, and monitoring and research activities.

Schedule and Agenda for the Hawaii PT Meeting

9 a.m. 4 p.m., Wednesday and Thursday, April 14 and 15, 2010

The PT will review the status of 2009 PT recommendations. The PT will discuss and may make recommendations on the Hawaii Archipelago Annual Report Modules for bottomfish, coral reef, precious coral and crustacean fisheries. Reports will be provided on monitoring activities and projects including, Kona crab fishery assessment, precious coral research, NMFS biosampling program, and bottomfish regulations and compliance. The PT will review and make recommendations on the following upcoming Council actions:

A. Annual Catch Limits

B. Catch shares/Limited Access Privilege Programs

C. Management Measures for Aquaculture in the Western Pacific

D. Hawaii Archipelago Essential Fish Habitat Review

E. Recommendations on Cooperative Research Projects and Priorities

Schedule and Agenda for American Samoa AP Meeting

5 p.m. 9 p.m., Monday, April 19, 2010

The American Samoa AP will meet to hear reports on, discuss and consider developing recommendations on the following upcoming Council meeting actions:

A. Annual Catch Limits

B. Management Measures for Aquaculture in the Western Pacific

C. Rose Atoll Marine National Monument

D. Cooperative Research Projects and Priorities

Reports will be provided and the AP will discuss and consider developing recommendations on community issues, research, and monitoring, fisheries development and new boat ramps, biological-sampling for life history information, and a new monitoring tool at FishBox.org.

Schedule and Agenda for American Samoa PT Meeting

9 a.m. 4 p.m., Tuesday, April 20, 2010

The American Samoa PT will meet to hear reports on, discuss and consider developing recommendations on the following upcoming Council meeting actions:

A. Annual Catch Limits

B. Rose Atoll Marine National Monument

C. Offshore Aquaculture Plan

D. Catch Shares/Limited Access Privilege Program

E. Cooperative Research Priorities and Projects

In addition, The PT will review the status of 2009 PT recommendations and will discuss and may make recommendations on the American Samoa Archipelago Fishery Ecosystem Plan Annual Report Modules for bottomfish, coral reef, precious coral and crustacean fisheries. Reports will be provided on monitoring activities and projects being conducted in American Samoa.

Schedule and Agenda for American Samoa REAC Meeting

9 a.m. 4 p.m., Wednesday, April 21, 2010

The American Samoa REAC will meet to hear reports on, discuss and consider developing recommendations on the following upcoming Council meeting actions:

A. Annual Catch Limits

B. Rose Atoll Marine National Monument

C. Offshore Aquaculture Plan

D. Catch Shares/Limited Access Privilege Program

E. Cooperative Research Priorities and Projects

In addition, the American Samoa REAC will hear reports on, discuss and consider developing recommendations on fisheries disaster relief, marine spatial planning, the Fagatele Bay National Marine Sanctuary Management Plan Review, Fisheries Development and new boat ramps, sea turtle interaction mitigation in the American Samoa longline Fishery, DMWR coral reef ecosystem surveys, and DMWR catch monitoring program.

Special Accommodations

These meetings are physically accessible to people with disabilities. Requests for sign language interpretation or other auxiliary aids should be directed to Kitty M. Simonds, (808)522-8220 (voice) or (808)522-8226 (fax), at least five days prior to the meeting date.

Authority: 1801 et seq.

Dated: March 23, 2010.
Tracey L. Thompson,
Acting Director, Office of Sustainable Fisheries, National Marine Fisheries Service.

[FR Doc. 2010-6698 Filed 3-25-10; 8:45 am]

BILLING CODE 3510-22-S